DEPARTMENT OF TRANSPORTATION

National Highway Traffic Safety Administration

49 CFR Part 544

[Docket No. NHTSA-2012-0096]

RIN 2127-AL22

Withdrawal of Proposed Rule on Insurer Reporting Requirements; List of Insurers Required To File Reports

AGENCY: National Highway Traffic Safety Administration (NHTSA), Department of Transportation (DOT).

ACTION: Withdrawal of proposed rule.

SUMMARY: This document withdraws a proposed rule published on May 14, 2012, that was intended to implement the requirements contained in Title 49 U.S.C. 33112 of the Insurer Reporting Requirements. This proposed rule required insurers to file reports on their motor vehicle theft loss experiences. An insurer included in any of the appendices that appeared in the proposed rule would be required to file three copies of its report for the 2009 calendar year before October 25, 2012. If the passenger motor vehicle insurers remain listed, they would submit reports by each subsequent October 25. Congress subsequently repealed Title 49 U.S.C. 33112 of the Insurer Reporting Requirements.

DATES: The proposed rule is withdrawn as of August 22, 2012.

FOR FURTHER INFORMATION CONTACT: Carlita Ballard, Office of International Policy, Fuel Economy and Consumer Programs, NHTSA, 1200 New Jersey Avenue SE., Washington, DC 20590, or by electronic mail to Carlita.Ballard@dot.gov. Ms. Ballard's telephone number is (202) 366-5222. Her fax number is (202) 493-2990.

SUPPLEMENTARY INFORMATION: Congress enacted the Motor Vehicle Theft Law Enforcement Act of 1984 (Pub. L. 98-547). This legislation added a new Title VI to the Motor Vehicle Information and Cost Savings Act which required the Department of Transportation to promulgate a Theft Prevention Standard for selected passenger cars exhibiting high theft rates. Pursuant to Title 49 U.S.C., Section 33112, Insurer reports and information, NHTSA requires certain passenger motor vehicle insurers to file an annual report with the agency. Each insurer's report includes information about thefts and recoveries of motor vehicles, the rating rules used by the insurer to establish premiums for comprehensive coverage, the actions taken by the insurer to reduce such premiums, and the actions taken by the insurer to reduce or deter theft. Under the agency's regulation, 49 CFR Part 544, the following insurers are subject to the reporting requirements:

(1) Issuers of motor vehicle insurance policies whose total premiums account for 1 percent or more of the total premiums of motor vehicle insurance issued within the United States;

(2) Issuers of motor vehicle insurance policies whose premiums account for 10 percent or more of total premiums written within any one state; and

(3) Rental and leasing companies with a fleet of 20 or more vehicles not covered by theft insurance policies issued by insurers of motor vehicles, other than any governmental entity.

Section 33112(f)(2) provided that the agency shall exempt small insurers of passenger motor vehicles if NHTSA found that such exemptions would not significantly affect the validity or usefulness of the information in the reports, either nationally or on a state-by-state basis. The term “small insurer” is defined, in Section 33112(f)(1)(A) and (B), as an insurer whose premiums for motor vehicle insurance issued directly or through an affiliate, including pooling arrangements established under state law or regulation for the issuance of motor vehicle insurance, account for less than 1 percent of the total premiums for all forms of motor vehicle insurance issued by insurers within the United States. However, that section also stipulated that if an insurance company satisfied this definition of a “small insurer,” but accounted for 10 percent or more of the total premiums for all motor vehicle insurance issued in a particular state, the insurer must report about its operations in that state.

Section 33112 established requirements that motor vehicle insurers and rental and leasing companies submit information to NHTSA on their actions to prevent or discourage the theft of motor vehicles that are stolen for the purpose of removing certain parts; to prevent or discourage the sale in interstate commerce of used parts that are removed from those vehicles; and to help reduce the cost to consumers of comprehensive insurance coverage for motor vehicles. Section 33112 required insurers and rental and leasing companies to provide motor vehicle theft and recovery information in a form consistent with requirements set forth in regulations promulgated by the Secretary of Transportation.

Congress repealed Title 49 U.S.C., Section 33112 Insurer reports and information, effective October 1, 2012. Accordingly, the proposed rule to implement the requirements contained in Section 33112, published on May 14, 2012, at 77 FR 28343, entitled Insurer Reporting Requirements; List of Insurers Required to File Reports, is hereby withdrawn.

Issued on: August 17, 2012.
Christopher J. Bonanti,
Associate Administrator for Rulemaking.

[FR Doc. 2012-20613 Filed 8-21-12; 8:45 am]

BILLING CODE 4910-59-P